DEPARTMENT OF THE TREASURY

Office of Investment Security

31 CFR Parts 800 and 802

RIN 1505-AC63, 1505-AC64

Provisions Pertaining to Certain Investments in the United States by Foreign Persons and Provisions Pertaining to Certain Transactions by Foreign Persons Involving Real Estate in the United States; Correction

AGENCY: Office of Investment Security, Department of the Treasury.

ACTION: Final rule; technical corrections.

SUMMARY: On January 17, 2020, the Department of the Treasury published two final rules implementing provisions of section 721 of the Defense Production Act of 1950, as amended by the Foreign Investment Risk Review Modernization Act of 2018. This final rule makes a limited number of technical corrections to those rules to provide clarity.

DATES: Effective February 13, 2020.

FOR FURTHER INFORMATION CONTACT: Laura Black, Director of Investment Security Policy and International Relations; Meena R. Sharma, Deputy Director of Investment Security Policy and International Relations; David Shogren, Senior Policy Advisor; or Alexander Sevald, Senior Policy Advisor, at U.S. Department of the Treasury, 1500 Pennsylvania Avenue NW, Washington, DC 20220; telephone: (202) 622-3425; email: CFIUS.FIRRMA@treasury.gov.

SUPPLEMENTARY INFORMATION: This rule makes technical corrections to a limited number of provisions in 85 FR 3112 (January 17, 2020) and 85 FR 3158 (January 17, 2020). These changes are intended to improve the clarity of the rule.

In FR Doc. 2020-00188, appearing on page 3112 in the Federal Register on Friday, January 17, 2020, make the following corrections:

§ 800.219 [Corrected]

1. On page 3129, in the first column, in § 800.219, in paragraph (a)(3) introductory text, “A foreign entity that meets each of the following conditions with respect to itself and each of its parents (if any):” is corrected to read, “An entity that meets each of the following conditions with respect to itself and each of its parents (if any):”.

2. On page 3129, in the first column, in § 800.219, paragraph (a)(3)(iv)(C) is corrected to read:

“(C) An entity that is organized under the laws of an excepted foreign state or in the United States and has its principal place of business in an excepted foreign state or in the United States; and”

3. On page 3129, in the first column, in § 800.219, paragraph (a)(3)(v)(D) is corrected to read:

“(D) An entity that is organized under the laws of an excepted foreign state or in the United States and has its principal place of business in an excepted foreign state or in the United States.”

§ 800.401 [Corrected]

4. On page 3140, in the third column, in § 800.401, correct paragraph (e)(4) by removing the word “or” following the semicolon and correct paragraph (e)(5) to read:

“(5) A covered control transaction involving an air carrier, as defined in 49 U.S.C. 40102(a)(2), that holds a certificate issued under 49 U.S.C. 41102; or”.

§ 800.502 [Corrected]

5. On page 3146, in the third column, in § 800.502, paragraph (c)(4)(i) is corrected to read:

“(i) Possesses any licenses, permits, or other authorizations other than those under the regulatory authorities listed in paragraph (c)(3)(x)(A) of this section that have been granted by an agency of the U.S. Government (if applicable, identification of the relevant licenses shall be provided); or”

6. On page 3148, in the third column, in § 800.502, in paragraph (o), the third sentence is corrected to read:

“(o) * * * The required description of the basis shall include discussion of all relevant information responsive to paragraphs (c)(5)(iii) through (v) of this section. * * *”

In FR Doc. 2020-00187, appearing on page 3158 in the Federal Register on Friday, January 17, 2020, make the following corrections:

§ 802.215 [Corrected]

7. On page 3169, in the first column, in § 802.215, correct paragraph (a)(3) introductory text to read:

“(3) An entity that meets each of the following conditions with respect to itself and each of its parents (if any):”

8. On page 3169, in the second column, in § 802.215, paragraph (a)(3)(iv)(C) is corrected to read:

“(C) An entity that is organized under the laws of an excepted real estate foreign state or in the United States and has its principal place of business in an excepted real estate foreign state or in the United States; and”

9. On page 3169, in the second column, in § 802.215, paragraph (a)(3)(v)(D) is corrected to read:

“(D) An entity that is organized under the laws of an excepted real estate foreign state or in the United States and has its principal place of business in an excepted real estate foreign state or in the United States.”

Dated: February 6, 2020.
Laura Black,
Director, Office of Investment Security Policy and International Relations.

[FR Doc. 2020-02713 Filed 2-13-20; 8:45 am]

BILLING CODE 4810-25-P